COMMISSION ON CIVIL RIGHTS

Notice of Public Meeting of the Missouri Advisory Committee for a Meeting To Discuss Matters Related to Its Project on Police-Community Relations in Missouri; Correction

AGENCY: U.S. Commission on Civil Rights.

ACTION: Notice of meeting; correction.

SUMMARY: The U.S. Commission on Civil Rights published a document in the Federal Register of March 9, 2015, concerning a meeting of the Missouri Advisory Committee to discuss matters related to its project on police-community relations in Missouri. The document contained an incorrect date and time.

FOR FURTHER INFORMATION CONTACT: David Mussatt, 312-353-8311.

Correction

In the Federal Register of March 18, 2015, in 80 FR 14071, in the third column on page 14071, the first sentence of the Summary section should be changed to read:

SUMMARY: Notice is hereby given, pursuant to the provisions of the rules and regulations of the U.S. Commission on Civil Rights (Commission) and the Federal Advisory Committee Act that the Missouri Advisory Committee (Committee) will hold a meeting on Wednesday, April 1, 2015, at 2:00 p.m. until 3:00 p.m. CST.

Correction

In the Federal Register of March 18, 2015, in 80 FR 14071, in the first column on page 14072, the first sentence of the Dates section should be changed to read:

DATES: The meeting will be held on Wednesday, April 1, 2015, at 2:00 p.m. CST.

Dated: March 18, 2015.
David Mussatt,
Chief, Regional Programs Unit.

[FR Doc. 2015-07240 Filed 3-30-15; 8:45 am]

BILLING CODE 6335-01-P